DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Arkansas: Boone (FEMA Docket No.: B-2274). | City of Harrison (21-06-2249P). | The Honorable Jerry Jackson, Mayor, City of Harrison, P.O. Box 1715, Harrison, AR 72602. | Department of Public Works, 303 North 3rd Street, Harrison, AR 72601. | Nov. 28, 2022 | 050020
Colorado:
El Paso (FEMA Docket No.: B-2274). | City of Fountain (21-08-0935P). | The Honorable Sharon Thompson, Mayor, City of Fountain, 116 South Main Street, Fountain, CO 80817. | City Hall, 116 South Main Street, Fountain, CO 80817. | Dec. 12, 2022 | 080061
El Paso (FEMA Docket No.: B-2274). | Unincorporated areas of El Paso County (21-08-0935P). | The Honorable Stan VanderWerf, Chair, El Paso County Board of Commissioners, 200 South Cascade Avenue, Suite 100, Colorado Springs, CO 80903. | El Paso County Pikes Peak Regional Building Department, 2880 International Circle, Colorado Springs, CO 80910. | Dec. 12, 2022 | 080059
Florida:
Columbia (FEMA Docket No.: B-2268). | Unincorporated areas of Columbia County (21-04-5275P). | David Kraus, Manager, Columbia County, 135 Northeast Hernando Avenue, Suite 203, Lake City, FL 32056. | Columbia County Building Department, 135 Northeast Hernando Avenue, Suite 203, Lake City, FL 32056. | Dec. 1, 2022 | 120070
Duval (FEMA Docket No.: B-2274). | City of Jacksonville (22-04-2659P). | The Honorable Lenny Curry, Mayor, City of Jacksonville, 117 West Duval Street, Suite 400, Jacksonville, FL 32202. | Planning and Development Department, 214 North Hogan Street, Suite 300, Jacksonville, FL 32202. | Dec. 12, 2022 | 120077
Flagler (FEMA Docket No.: B-2268). | City of Palm Coast (21-04-6036P). | The Honorable David Alfin, Mayor, City of Palm Coast, 160 Lake Avenue, Palm Coast, FL 32164. | City Hall, 160 Lake Avenue, Palm Coast, FL 32164. | Nov. 25, 2022 | 120684
Miami-Dade (FEMA Docket No.: B-2274). | City of Miami (22-04-3664P). | The Honorable Francis X. Suarez, Mayor, City of Miami, 3500 Pan American Drive, Miami, FL 33133. | Building Department, 444 Southwest 2nd Avenue, 4th Floor, Miami, FL33130. | Dec. 5, 2022 | 120650
Monroe (FEMA Docket No.: B-2274). | Unincorporated areas of Monroe County (22-04-2344P). | The Honorable David Rice, Mayor, Monroe County Board of Commissioners, 9400 Overseas Highway, Suite 210, Marathon, FL 33050. | Monroe County Building Department, 2798 Overseas Highway, Suite 300, Marathon, FL 33050. | Dec. 12, 2022 | 125129
Monroe (FEMA Docket No.: B-2268). | Unincorporated areas of Monroe County (22-04-3487P). | The Honorable David Rice, Mayor, Monroe County Board of Commissioners, 9400 Overseas Highway, Suite 210, Marathon, FL 33050. | Monroe County Building Department, 2798 Overseas Highways, Suite 300, Marathon, FL 33050. | Dec. 5, 2022 | 125129
Monroe (FEMA Docket No.: B-2268). | Unincorporated areas of Monroe County (22-04-3491P). | The Honorable David Rice, Mayor, Monroe County Board of Commissioners, 9400 Overseas Highway, Suite 210, Marathon, FL 33050. | Monroe County Building Department, 2798 Overseas Highways, Suite 300, Marathon, FL 33050. | Dec. 5, 2022 | 125129
Monroe (FEMA Docket No.: B-2268). | Village of Islamorada (22-04-4369P). | The Honorable Pete Bacheler, Mayor, Village of Islamorada, 86800 Overseas Highway, Islamorada, FL 33036. | Building Department, 86800 Overseas Highway, Islamorada, FL 33036. | Dec. 12, 2022 | 120424
Palm Beach (FEMA Docket No.: B-2278). | City of Westlake (22-04-1062P). | The Honorable John Paul O'Connor, Mayor, City of Westlake, 4001 Seminole Pratt Whitney Road, Westlake, FL 33470. | City Hall, 4001 Seminole Pratt Whitney Road, Westlake, FL 33470. | Dec. 7, 2022 | 120018
Palm Beach (FEMA Docket No.: B-2268). | Unincorporated areas of Palm Beach County (21-04-1899P). | Verdenia C. Baker, Palm Beach County Administrator, 301 North Olive Avenue, West Palm Beach, FL 33401. | Palm Beach County Building Division, 2300 North Jog Road, West Palm Beach, FL 33411. | Nov. 25, 2022 | 120192
Pasco (FEMA Docket No.: B-2274). | Unincorporated areas of Pasco County (22-04-3652P). | The Honorable Kathryn Starkey, Chair, Pasco County Board of Commissioners, 37918 Meridian Avenue, Dade City, FL 33525. | Pasco County Building Construction Services Department, 8731 Citizens Drive, Suite 230, New Port Richey, FL 34654. | Dec. 5, 2022 | 120230
Polk (FEMA Docket No.: B-2268). | Unincorporated areas of Polk County (21-04-0198P). | Bill Beasley, Manager, Polk County, 330 West Church Street, Bartow, FL 33831. | Polk County Board of Commissioners, 330 West Church Street, Bartow, FL 33831. | Nov. 25, 2022 | 120261
Sarasota (FEMA Docket No.: B-2268). | Unincorporated areas of Sarasota County (22-04-3339P). | The Honorable Alan Maio, Chair, Sarasota County Board of Commissioners, 1660 Ringling Boulevard, Sarasota, FL 34236. | Sarasota County Planning and Development Services Department, 1001 Sarasota Center Boulevard, Sarasota, FL 34240. | Nov. 28, 2022 | 125144
Georgia:
Bryan (FEMA Docket No.: B-2268). | Unincorporated areas of Bryan County (22-04-1572P). | The Honorable Carter Infinger, Chair, Bryan County Board of Commissioners, 66 Captain Matthew Freeman Drive, Suite 201, Richmond Hill, GA 31324. | Bryan County Department of Public Works, 51 North Courthouse Street, Pembroke, GA 31321. | Dec. 2, 2022 | 130016
Columbia (FEMA Docket No.: B-2274). | Unincorporated areas of Columbia County (22-04-1178P). | The Honorable Douglas R. Duncan, Jr., Chair, Columbia County Board of Commissioners, P.O. Box 498, Evans, GA 30809. | Columbia County Engineering Services Department, 630 Ronald Reagan Drive, Evans, GA 30809. | Nov. 25, 2022 | 130059
Kentucky: Hardin (FEMA Docket No.: B-2268). | City of Elizabethtown (22-04-1909P). | The Honorable Jeff H. Gregory, Mayor, City of Elizabethtown, 200 West Dixie Avenue, Elizabethtown, KY 42701. | Stormwater Department, 200 West Dixie Avenue, Elizabethtown, KY 42701. | Dec. 1, 2022 | 210095
Massachusetts: Middlesex (FEMA Docket No.: B-2268). | City of Woburn (21-01-1457P). | The Honorable Scott Galvin, Mayor, City of Woburn, 10 Common Street, Woburn, MA 01801. | Engineering Department, 10 Common Street, Woburn, MA 01801. | Nov. 28, 2022 | 250229
Montana: Lewis and Clark (FEMA Docket No.: B-2268). | Unincorporated areas of Lewis and Clark County (22-08-0043P). | The Honorable Jim McCormick, Chair, Lewis and Clark County Board of Commissioners, 316 North Park Avenue, Room 345, Helena, MT 59623. | Lewis and Clark County, Disaster and Emergency Services Department, 316 North Park Avenue, Room 230, Helena, MT 59623. | Nov. 25, 2022 | 300038
North Carolina: Guilford (FEMA Docket No.: B-2274). | City of Greensboro (22-04-0428P). | The Honorable Nancy Vaughan, Mayor, City of Greensboro, P.O. Box 3136, Greensboro, NC 27402. | Stormwater Planning Division, 300 West Washington Street, Greensboro, NC 27401. | Dec. 20, 2022 | 375351
Ohio:
Putnam (FEMA Docket No.: B-2268). | Unincorporated areas of Putnam County (21-05-3623P). | The Honorable Michael Lammers, Chair, Putnam County Board of Commissioners, 245 East Main Street, Suite 101, Ottawa, OH 45875. | Putnam County Courthouse, 245 East Main Street, Suite 101, Ottawa, OH 45875. | Nov. 25, 2022 | 390465
Putnam (FEMA Docket No.: B-2268). | Village of Glandorf (21-05-3623P). | The Honorable Charles R. Schroeder, Mayor, Village of Glandorf, P.O. Box 131, Glandorf, OH 45848. | Village Hall, 203 North Main Street, Glandorf, OH 45848. | Nov. 25, 2022 | 390470
Putnam (FEMA Docket No.: B-2268). | Village of Ottawa (21-05-3623P). | The Honorable J. Dean Meyer, Mayor, Village of Ottawa, 136 North Oak Street, Ottawa, OH 45875. | Village Hall, 136 North Oak Street, Ottawa, OH 45875. | Nov. 25, 2022 | 390465
South Carolina:
Dorchester (FEMA Docket No.: B-2274). | Unincorporated areas of Dorchester County (21-04-5781P). | Jason L. Ward, Administrator, Dorchester County, 201 Johnston Street, St. George, SC 29477. | Dorchester County Building Services Department, 500 North Main Street, Summerville, SC 29483. | Nov. 25, 2022 | 450068
Sumter (FEMA Docket No.: B-2274). | City of Sumter (22-04-1578P). | The Honorable David P. Merchant, Mayor, City of Sumter, 21 North Main Street, Sumter, SC 29150. | Sumter City-County Planning Department, 12 West Liberty Street, Sumter, SC 29150. | Nov. 25, 2022 | 450184
Sumter (FEMA Docket No.: B-2274). | Unincorporated areas of Sumter County (22-04-1578P). | The Honorable James T. McCain, Jr., Chair, Sumter County Council, 13 East Canal Street, Sumter, SC 29150. | Sumter City-County Planning Department, 12 West Liberty Street, Sumter, SC 29150. | Nov. 25, 2022 | 450182
Texas:
Brazoria (FEMA Docket No.: B-2278). | City of Pearland (21-06-3135P). | The Honorable Kevin Cole, Mayor, City of Pearland, 3519 Liberty Drive, Pearland, TX 77581. | Engineering Division, 2016 Old Alvin Road, Pearland, TX 77581. | Nov. 28, 2022 | 480077
Collin (FEMA Docket No.: B-2268). | City of McKinney (21-06-3118P). | The Honorable George Fuller, Mayor, City of McKinney, P.O. Box 517, McKinney, TX 75070. | Engineering Department, 221 North Tennessee Street, McKinney, TX 75069. | Dec. 5, 2022 | 480135
Collin (FEMA Docket No.: B-2274). | Unincorporated areas of Collin County (22-06-1296P). | The Honorable Chris Hill, Collin County Judge, 2300 Bloomdale Road, Suite 4192, McKinney, TX 75071. | Collin County Engineering Department, 4690 Community Avenue, Suite 22, McKinney, TX 75071. | Nov. 28, 2022 | 480130
Harris (FEMA Docket No.: B-2278). | City of Houston (21-06-3135P). | The Honorable Sylvester Turner, Mayor, City of Houston, P.O. Box 1562, Houston, TX 77251. | Floodplain Management Department, 1002 Washington Avenue, Houston, TX 77002. | Nov. 28, 2022 | 480296
Gillespie (FEMA Docket No.: B-2278). | Unincorporated areas of Gillespie County (22-06-0845P). | The Honorable Mark Stroeher, Gillespie County Judge, 101 West Main Street, Mail Unit 9, Room 101, Fredericksburg, TX 78624. | Gillespie County Courthouse, 101 West Main Street, Mail Unit 9, Room 101, Fredericksburg, TX 78624. | Dec. 1, 2022 | 480696
Johnson (FEMA Docket No.: B-2268). | City of Burleson (22-06-1762P). | The Honorable Chris Fletcher, Mayor, City of Burleson, 141 West Renfro Street, Burleson, TX 76028. | City Hall, 141 West Renfro Street, Burleson, TX 76028. | Dec. 8, 2022 | 485459
Potter (FEMA Docket No.: B-2278). | City of Amarillo (21-06-3429P). | The Honorable Ginger Nelson, Mayor, City of Amarillo, 601 South Buchanan Street, Amarillo, TX 79101. | Capital Projects and Development Engineering Department, 808 South Buchanan Street, Amarillo, TX 79101. | Dec. 7, 2022 | 480529
Webb (FEMA Docket No.: B-2274). | City of Laredo (21-06-2407P). | The Honorable Pete Saenz, Mayor, City of Laredo, 1110 Houston Street, 3rd Floor, Laredo, TX 78040. | Planning and Zoning Department, 1413 Houston Street, Laredo, TX 78040. | Nov. 28, 2022 | 480651
Utah:
Washington (FEMA Docket No.: B-2274). | City of Washington City (22-08-0088P). | The Honorable Kress Staheli, Mayor, City of Washington City, 111 North 100 East, Washington City, UT 84780. | Public Works Department, 1305 East Washington Dam Road, Washington City, UT 84780. | Dec. 7, 2022 | 490182
Washington (FEMA Docket No.: B-2274). | Unincorporated areas of Washington County (22-08-0088P). | The Honorable Victor Iverson, Chair, Washington County Commission, 197 East Tabernacle Street, St. George, UT 84770. | Washington County Administration Building, 197 East Tabernacle Street, St. George, UT 84770. | Dec. 7, 2022 | 490224
Virginia:
Fairfax (FEMA Docket No.: B-2274). | Unincorporated areas of Fairfax County (22-03-0497P). | The Honorable Jeffrey C. McKay, Chair, Fairfax County Board of Supervisors, 12000 Government Center Parkway, Fairfax, VA 22035. | Fairfax County Planning Division, 12000 Government Center Parkway, Suite 449, Fairfax, VA 22035. | Dec. 7, 2022 | 510054
Independent City (FEMA Docket No.: B-2274). | City of Falls Church (22-03-0497P). | The Honorable P. David Tarter, Mayor, City of Falls Church, 300 Park Avenue, Falls Church, VA 22046. | Public Works Department, 300 Park Avenue, Suite 103E, Falls Church, VA 22046. | Dec. 7, 2022 | 515525

[FR Doc. 2023-00076 Filed 1-5-23; 8:45 am]

BILLING CODE 9110-12-P